DEPARTMENT OF TRANSPORTATION

Federal Aviation Administration

Notice of Final Decision on Proposed Airport Access Restriction

AGENCY: Federal Aviation Administration (FAA), Department of Transportation (DOT).

ACTION: Notice.

SUMMARY: The FAA has completed its review of the application for an airport noise and access restriction submitted by Los Angeles World Airports (LAWA) for the Los Angeles International Airport (LAX). The FAA determined that the application does not provide substantial evidence that the proposed restriction meets three of the six statutory conditions for approval under the Airport Noise and Capacity Act of 1990 (ANCA). The FAA's decision was signed on November 7, 2014, and transmitted to LAWA on November 8, 2014.

DATES: Effective date: November 25, 2014. The effective date of the FAA's decision on the application for a mandatory noise and access restriction at LAX is November 7, 2014.

FOR FURTHER INFORMATION CONTACT: James Byers, Airport Planning and Environmental Division, APP-400, 800 Independence Avenue SW., Washington, DC 20591. Email address: jim.byers@faa.gov; telephone: 202-267-3007.

SUPPLEMENTARY INFORMATION: This Notice also announces the availability of the FAA's final agency order disapproving the proposed access restriction at http://faa.gov/airports/environmental/airport_noise/part_161/.

The Airport Noise and Capacity Act of 1990 (hereinafter referred to as “the Act” or “ANCA”) provides notice, review, and approval requirements for airports seeking to impose noise or access restrictions on Stage 3 aircraft operations that become effective after October 1, 1990. 49 U.S.C. 47521 et seq.

ANCA established a 180-day review period for the application. Under 14 CFR 161.313(c)(4)(ii), the review period starts on the date of receipt of the complete application, which was May 22, 2014.

On January 30, 2013, the FAA received an application from LAWA under Title 14, Code of Federal Regulations, 14 CFR part 161, seeking the FAA's review of a proposed Stage 3 aircraft noise and access restriction at LAX. The FAA reviewed the application in accordance with 14 CFR 161.313(a), and determined it to be incomplete in the areas of Noise Exposure Maps (NEMs); Noise Study Area; Technical Data Supporting Noise Impact Analysis; and Cost Benefit Analysis. The FAA sent notice of this decision to LAWA on March 1, 2013. On March 15, 2013, the FAA provided LAWA with additional information regarding the types of information and analysis required to complete the application.

On March 28, 2013, LAWA stated its intent to revise the Part 161 application and resubmit it for further review. On July 5, 2013, FAA received a “Supplemental Analysis” from LAWA. The FAA reviewed the Supplemental Analysis and determined that the application continued to be incomplete in the areas of Airport Noise Study Area and Noise Contours; Technical Data Supporting Noise Impact Analysis; and Cost Benefit Analysis. The FAA sent notice of this decision to LAWA on August 2, 2013. On August 20, 2013, LAWA stated its intent to supplement the Part 161 application and resubmit it to the FAA. On May 12, 2014, FAA received LAWA's supplemented application, followed by an errata sheet on May 22, 2014. On June 10, 2014, FAA determined LAWA's application to be complete. On June 27, 2014, the FAA published a notice in the Federal Register announcing its determination that LAWA's application was complete and inviting public comments. 79 FR 36577. The FAA received 21 separate comments, which the FAA considered during its evaluation of the LAWA application.

By law, the FAA may only approve a noise or access restriction affecting the operations of Stage 3 aircraft if the applicant demonstrates, by substantial evidence, that each of six statutory conditions have been met. These six statutory conditions of approval are:

• Condition 1: The restriction is reasonable, nonarbitrary, and nondiscriminatory;

• Condition 2: The restriction does not create an undue burden on interstate or foreign commerce;

• Condition 3: The proposed restriction maintains safe and efficient use of the navigable airspace;

• Condition 4: The proposed restriction does not conflict with any existing Federal statute or regulation;

• Condition 5: The applicant has provided adequate opportunity for public comment on the proposed restriction; and

• Condition 6: The proposed restriction does not create an undue burden on the national aviation system.

The FAA evaluated LAWA's application under the provisions of ANCA and 14 CFR 161.317 and determined that the application satisfies the requirements under Condition 3, Condition 5, and Condition 6. However, the application does not satisfy the requirements under Condition 1, Condition 2, or Condition 4. Therefore, in accordance with the requirements set forth in ANCA, the FAA disapproved the application on November 7, 2014.

Questions may be directed to the individual named above under the heading FOR FURTHER INFORMATION CONTACT.

Issued in Washington, DC, on November 17, 2014.
Elliott Black,
Director, Office of Airport Planning and Programming.

[FR Doc. 2014-27815 Filed 11-24-14; 8:45 am]

BILLING CODE 4910-13-P